DEPARTMENT OF ENERGY

Federal Energy Regulatory Commission

Combined Notice of Filings #1

Take notice that the Commission received the following electric corporate filings:

Docket Numbers: EC23-133-000.

Applicants: Fox Squirrel Solar LLC.

Description: Application for Authorization Under Section 203 of the Federal Power Act of Fox Squirrel Solar LLC.

Filed Date: 9/15/23.

Accession Number: 20230915-5222.

Comment Date: 5 p.m. ET 10/6/23.

Take notice that the Commission received the following exempt wholesale generator filings:

Docket Numbers: EG23-292-000.

Applicants: Amcor Storage LLC.

Description: Amcor Storage LLC submits Notice of Self-Certification of Exempt Wholesale Generator Status.

Filed Date: 9/15/23.

Accession Number: 20230915-5221.

Comment Date: 5 p.m. ET 10/6/23.

Docket Numbers: EG23-293-000.

Applicants: South Energy Investments, LLC.

Description: South Energy Investments, LLC submits Notice of Self-Certification of Exempt Wholesale Generator Status.

Filed Date: 9/18/23.

Accession Number: 20230918-5081.

Comment Date: 5 p.m. ET 10/10/23.

Take notice that the Commission received the following electric rate filings:

Docket Numbers: ER23-2479-001.

Applicants: American Electric Power Service Corporation, PJM Interconnection, L.L.C.

Description: Tariff Amendment: American Electric Power Service Corporation submits tariff filing per 35.17(b): AEP Amendment Update to Att. 1 of ILDSA, SA No. 1336 in ER23-2479 to be effective 7/1/2023.

Filed Date: 9/18/23.

Accession Number: 20230918-5028.

Comment Date: 5 p.m. ET 10/10/23.

Docket Numbers: ER23-2875-000.

Applicants: PJM Interconnection, L.L.C.

Description: § 205(d) Rate Filing: Fourth Amendment to ISA, Service Agreement No. 5548; Queue No. AC1-076/AE2-134 to be effective 11/20/2023.

Filed Date: 9/18/23.

Accession Number: 20230918-5017.

Comment Date: 5 p.m. ET 10/10/23.

Docket Numbers: ER23-2876-000.

Applicants: CPV Retail Energy LP.

Description: § 205(d) Rate Filing: Revised Market-Based Rate Tariff Filing to be effective 11/18/2023.

Filed Date: 9/18/23.

Accession Number: 20230918-5042.

Comment Date: 5 p.m. ET 10/10/23.

Docket Numbers: ER23-2877-000.

Applicants: CPV Three Rivers, LLC.

Description: § 205(d) Rate Filing: Revised Market-Based Rate Tariff Filing to be effective 11/18/2023.

Filed Date: 9/18/23.

Accession Number: 20230918-5044.

Comment Date: 5 p.m. ET 10/10/23.

Docket Numbers: ER23-2878-000.

Applicants: PJM Interconnection, L.L.C.

Description: § 205(d) Rate Filing: Original ISA, Service Agreement No. 7094; Queue No. AG1-041 to be effective 8/18/2023.

Filed Date: 9/18/23.

Accession Number: 20230918-5046.

Comment Date: 5 p.m. ET 10/10/23.

Docket Numbers: ER23-2879-000.

Applicants: Hecate Energy Johanna Facility LLC.

Description: § 205(d) Rate Filing: Revised Market-Based Rate Tariff Filing to be effective 11/18/2023.

Filed Date: 9/18/23.

Accession Number: 20230918-5047.

Comment Date: 5 p.m. ET 10/10/23.

Docket Numbers: ER23-2880-000.

Applicants: Hecate Energy Desert Storage 1 LLC.

Description: § 205(d) Rate Filing: Revised Market-Based Rate Tariff Filing to be effective 11/18/2023.

Filed Date: 9/18/23.

Accession Number: 20230918-5051.

Comment Date: 5 p.m. ET 10/10/23.

Docket Numbers: ER23-2881-000.

Applicants: Pennsylvania Electric Company, PJM Interconnection, L.L.C.

Description: § 205(d) Rate Filing: Pennsylvania Electric Company submits tariff filing per 35.13(a)(2)(iii: Penelec amends 10 ECSAs (4992 5171 5280 5328-5330 5334 5337 5341 6491) to be effective 12/31/9998.

Filed Date: 9/18/23.

Accession Number: 20230918-5062.

Comment Date: 5 p.m. ET 10/10/23.

Docket Numbers: ER23-2882-000.

Applicants: Alabama Power Company, Georgia Power Company, Mississippi Power Company.

Description: § 205(d) Rate Filing: Alabama Power Company submits tariff filing per 35.13(a)(2)(iii: Hancock County Solar Project LGIA Filing to be effective 9/1/2023.

Filed Date: 9/18/23.

Accession Number: 20230918-5070.

Comment Date: 5 p.m. ET 10/10/23.

Docket Numbers: ER23-2883-000.

Applicants: Florida Power & Light Company.

Description: § 205(d) Rate Filing: Rate Schedule FERC No. 317 Agreement Regarding Hold Harmless Commitment to be effective 11/18/2023.

Filed Date: 9/18/23.

Accession Number: 20230918-5073.

Comment Date: 5 p.m. ET 10/10/23.

Docket Numbers: ER23-2884-000.

Applicants: Florida Power & Light Company.

Description: § 205(d) Rate Filing: Rate Schedule FERC No. 322 Agreement Regarding Hold Harmless Commitment to be effective 11/18/2023.

Filed Date: 9/18/23.

Accession Number: 20230918-5074.

Comment Date: 5 p.m. ET 10/10/23.

Docket Numbers: ER23-2885-000.

Applicants: PJM Interconnection, L.L.C.

Description: § 205(d) Rate Filing: Original NSA, Service Agreement No. 7076; Queue No. AD1-031 to be effective 8/18/2023.

Filed Date: 9/18/23.

Accession Number: 20230918-5094.

Comment Date: 5 p.m. ET 10/10/23.

Docket Numbers: ER23-2886-000.

Applicants: South Energy Investments, LLC.

Description: Baseline eTariff Filing: Application for Market-Based Rate Authorization to be effective 11/18/2023.

Filed Date: 9/18/23.

Accession Number: 20230918-5100.

Comment Date: 5 p.m. ET 10/10/23.

Docket Numbers: ER23-2887-000.

Applicants: Arizona Public Service Company.

Description: § 205(d) Rate Filing: Rate Schedule No. 265 to be effective 11/18/2023.

Filed Date: 9/18/23.

Accession Number: 20230918-5107.

Comment Date: 5 p.m. ET 10/10/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 18, 2023.
Debbie-Anne A. Reese,
Deputy Secretary.

[FR Doc. 2023-20583 Filed 9-21-23; 8:45 am]

BILLING CODE 6717-01-P